DEPARTMENT OF STATE

[Public Notice 4797]

In the Matter of the Redesignation of Communist Party of the Philippines, Also Known as the CPP, Also Known as New People's Army, Also Known as the NPA, Also Known as the CPP/NPA, as a Foreign Terrorist Organization Pursuant to Section 219 of the Immigration and Nationality Act, as Amended

Based upon a review of the Administrative Record assembled in this matter and in consultation with the Attorney General and the Secretary of the Treasury, the Secretary of State has concluded that there is a sufficient factual basis to find that the relevant circumstances described in Section 219 of the Immigration and Nationality Act, as amended (hereinafter “INA”), 8 U.S.C. 1189, continue to exist with respect to the Communist Party of the Philippines. The Communist Party of the Philippines is also known as the CPP, also known as the New People's Army, also known as the NPA, and also known as the CPP/NPA.

Therefore, effective August 9, 2004, the Secretary of State hereby redesignates that organization as a Foreign Terrorist Organization pursuant to section 219(a) of the INA.

Dated: August 3, 2004.
Ambassador Cofer Black,
Coordinator for Counterterrorism, Department of State.

[FR Doc. 04-18019 Filed 8-6-04; 5:00 pm]

BILLING CODE 4710-10-P